DEPARTMENT OF EDUCATION

President's Advisory Commission on Educational Excellence for Hispanics

AGENCY: U.S. Department of Education, White House Initiative on Educational Excellence for Hispanics.

ACTION: Notice of an Open Meeting.

SUMMARY: This notice sets forth the schedule and agenda of the first meeting of the President's Advisory Commission on Educational Excellence for Hispanics. The notice also describes the functions of the Commission. Notice of the meeting is required by section 10(a)(2) of the Federal Advisory Committee Act and intended to notify the public of its opportunity to attend.

DATES: Thursday, May 26, 2011, and Friday, May 27, 2011.

Time: 1-5 p.m., Thursday, May 26, and 9 a.m.-5 p.m., Friday, May 27.

ADDRESSES: The Commission will meet at the Eisenhower Executive Office Building (EEOB), in Washington, District of Columbia, Room 430 A-B, 1600 Pennsylvania Avenue, Washington, DC 20202, 202-401-1411.

FOR FURTHER INFORMATION CONTACT: Glorimar Maldonado, Chief of Staff, White House Initiative on Educational Excellence for Hispanics, 400 Maryland Ave., SW., Room 4W110, Washington, DC 20202; telephone: 202-401-1411 or 202-401-0078.

SUPPLEMENTARY INFORMATION: The President's Advisory Commission on Educational Excellence for Hispanics (the Commission) is established by Executive Order 13555 (Oct. 19, 2010). The Commission is governed by the provisions of the Federal Advisory Committee Act (FACA), (Pub. L. 92-463; as amended, 5 U.S.C.A., Appendix 2) which sets forth standards for the formation and use of advisory committees. The purpose of the Commission is to advise the President and the Secretary of Education (Secretary) on all matters pertaining to the education attainment of the Hispanic community.

The Commission shall advise the President and the Secretary in the following areas: (i) Developing, implementing, and coordinating educational programs and initiatives at the Department and other agencies to improve educational opportunities and outcomes for Hispanics of all ages; (ii) increasing the participation of the Hispanic community and Hispanic-Serving Institutions in the Department's programs and in education programs at other agencies; (iii) engaging the philanthropic, business, nonprofit, and education communities in a national dialogue regarding the mission and objectives of this order; (iv) establishing partnerships with public, private, philanthropic, and nonprofit stakeholders to meet the mission and policy objectives of this order.

Agenda

The Commission will discuss possible strategies to meet its duties under its charter.

Individuals who will need accommodations in order to attend the meeting (e.g., interpreting services, assistive listening devices, or material in alternative format) should notify Glorimar Maldonado, Chief of Staff, White House Initiative on Educational Excellence for Hispanics at 202-401-1411 or 202-401-0078, no later than Monday, May 23, 2011. We will attempt to meet requests for such accommodations after this date, but cannot guarantee their availability. The meeting site is accessible to individuals with disabilities.

Individuals who wish to attend the Commission meetings must RSVP by noon EDT, Friday, May 20, to the White House Initiative staff at 202-453-6347. Due to space limitations, RSVPs are required by the due date. Members of the public must RSVP by the due date.

An opportunity for public comment is available throughout the day on Thursday, May 26, 2011, from 1-5 p.m., and Friday, May 27, 2011, from 9 a.m. to 5 p.m. Individuals who wish to provide comments will be allowed three minutes to speak. Those members of the public interested in submitting written comments may do so by submitting them to the attention of Glorimar Maldonado, White House Initiative on Educational Excellence for Hispanics, U.S. Department of Education, 400 Maryland Ave., SW., Room 4W110, Washington, DC 20202, by Wednesday, May 25, 2011. The meeting proceedings will be webcast at http://www.whitehouse.gov/live.

Records are kept of all Commission proceedings and are available for public inspection at the office of the White House Initiative on Educational Excellence for Hispanics, U.S. Department of Education, 400 Maryland Ave., SW., Room 4W108, Washington, DC 20202, Monday through Friday (excluding federal holidays) during the hours of 9 a.m. to 5 p.m.

Electronic Access to the Document: You may view this document, as well as all other documents of this Department published in the Federal Register, in text or Adobe Portable Document Format (PDF) on the Internet at the following site: http://www.ed.gov/fedregister/index.html. To use PDF, you must have Adobe Acrobat Reader, which is available free at this site. For questions about using PDF, call the U.S. Government Printing Office (GPO), toll free at 1-866-512-1830; or in the Washington, DC, area at 202-512-0000.

Martha Kanter,
Under Secretary, Department of Education.

[FR Doc. 2011-11690 Filed 5-12-11; 8:45 am]

BILLING CODE 4000-01-P